DEPARTMENT OF COMMERCE

National Oceanic and Atmospheric Administration

RIN 0648-XC839

New England Fishery Management Council (NEFMC); Public Meeting

AGENCY: National Marine Fisheries Service (NMFS), National Oceanic and Atmospheric Administration (NOAA), Commerce.

ACTION: Notice; public meeting.

SUMMARY: The New England Fishery Management Council (Council) is scheduling a public meeting of its Scientific and Statistical Committee (SSC) on September 16, 2013 to consider actions affecting New England fisheries in the exclusive economic zone (EEZ). Recommendations from this group will be brought to the full Council for formal consideration and action, if appropriate.

DATES: This meeting will be held on Monday, September 16, 2013 at 9 a.m.

ADDRESSES: Meeting address: The meeting will be held at the Omni Hotel, 1 West Exchange Street Providence, RI 02903; telephone: (401) 598-8000; fax: (401) 598-8200.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The NEFMC's Scientific and Statistical Committee will meet to specify overfishing levels (OFLs) and develop Acceptable Biological Catch (ABC) recommendations for scallops for fishing years 2014 and 2015 (default) and for the Northeast Skate Complex for fishing years 2014 through 2016. The Committee will consider information provided to it by the Council's Scallop Plan Development Team (PDT) and by the Skate PDT.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 26, 2013.
Tracey L. Thompson,
Acting Deputy Director, Office of Sustainable Fisheries, National Marine Fisheries Service.

[FR Doc. 2013-21148 Filed 8-29-13; 8:45 am]

BILLING CODE 3510-22-P